DEPARTMENT OF COMMERCE

International Trade Administration

[C-570-019]

Countervailing Duty Investigation of Boltless Steel Shelving Units Prepackaged for Sale From the People's Republic of China: Postponement of Preliminary Determination

AGENCY: Enforcement and Compliance International Trade Administration, Department of Commerce.

FOR FURTHER INFORMATION CONTACT: Susan S. Pulongbarit, AD/CVD Operations, Office V, Enforcement and Compliance, International Trade Administration, U.S. Department of Commerce, 14th Street and Constitution Avenue NW., Washington, DC 20230; telephone: 202-482-4013.

SUPPLEMENTARY INFORMATION:

Background

On September 22, 2014, the Department of Commerce (the “Department”) initiated the countervailing duty investigation of boltless steel shelving units prepackaged for sale (“steel shelves”) from the People's Republic of China (“PRC”).¹ Currently, the preliminary determination is due no later than November 19, 2014.

¹ See Boltless Steel Shelving Units Prepackaged for Sale From the People's Republic of China: Initiation of Countervailing Duty Investigation, 79 FR 56567 (September 22, 2014).

Postponement of Due Date for the Preliminary Determination

Section 703(b)(1) of the Tariff Act of 1930, as amended (the “Act”), requires the Department to issue the preliminary determination in a countervailing duty investigation within 65 days after the date on which the Department initiated the investigation. However, section 703(c)(1) of the Act permits the Department to postpone making the preliminary determination until no later than 130 days after the date on which it initiated the investigation if, among other reasons, the petitioner makes a timely request for a postponement, or the Department concludes that the parties concerned are cooperating and determines that the investigation is extraordinarily complicated. On October 21, 2014, Edsal Manufacturing Co., Inc. (“Petitioner”) made a timely request to postpone the preliminary countervailing duty determination.² Moreover, the Department has not yet chosen mandatory respondents. In addition, the Department determines that, thus far, the parties concerned are cooperating because each has made an entry of appearance in this investigation.³ Also, the Department must analyze 19 complicated programs ⁴ for each respondent, including companies that are cross-owned with each respondent, and likely issue multiple supplemental questionnaires. For all these reasons, the Department finds this investigation to be extraordinarily complicated within the meaning of section 703(c)(1)(B) of the Act, and is hereby fully postponing the preliminary countervailing duty determination by 130 days. Therefore, pursuant to the discretion afforded to the Department under section 703(c)(1)(B) of the Act, we are postponing the due date for the preliminary determination to no later than January 23, 2015.

² See Petitioners' October 21, 2014 letter requesting postponement of the preliminary determination; see also Memorandum to the File, from Susan S. Pulongbarit, Senior International Trade Analyst, AD/CVD Operations, Office V, Enforcement and Compliance, regarding Countervailing Duty Investigation of Boltless Steel Shelving Units Prepackaged for Sale from the People's Republic of China, dated October 23, 2014.

³ See, e.g., The Government of the People's Republic of China September 19, 2014 submission, “Boltless Steel Shelving Units Pre-Packaged for Sale from China; Entry of Appearance.”

⁴ The number of programs may be found in the “Countervailing Duty Investigation Initiation Checklist: Boltless Steel Shelving from the People's Republic of China from the People's Republic of China,” at 7-21.

This notice is issued and published pursuant to section 703(c)(2) of the Act and 19 CFR 351.205(f)(1).

Dated: October 28, 2014.
Ronald K. Lorentzen,
Acting Assistant Secretary for Enforcement and Compliance.

[FR Doc. 2014-26191 Filed 11-3-14; 8:45 am]

BILLING CODE 3510-DS-P